DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before June 25, 2009. Address written comments to Statutory Import Programs Staff, Room 3720, U.S. Department of Commerce, Washington, D.C. 20230. Applications may be examined between 8:30 a.m and 5 p.m. at the U.S. Department of Commerce in Room 3720.

Docket Number: 09-021. Applicant: University of Chicago, Argonne, LLC, 9700 South Cass Avenue, Bldg. 201, Lemont, IL 60439. Instrument: Isolation Transformer. Manufacturer: Guth GmbH, Germany. Intended Use: The instrument will used as part of a project to provide neutron rich isotopes, with which r-process nucleosynthesis can be explored. The transformer will provide power to a high voltage platform which acts as the first stage of acceleration of the neutron rich nuclei. A unique feature of this instrument is that it is capable of providing 110kVA AC power to an injector platform, and will operate at a positive voltage of up to 250kVDC at continuous operation. Justification for Duty-Free Entry: There are no instruments of the same general category being manufactured within the United States. Application accepted by Commissioner of Customs: April 28, 2009.

Docket Number: 09-028. Applicant: University of Texas at Austin, 2200 Comal St., Austin, TX 78722. Instrument: Synchroslice. Manufacturer: Lohmann Research Products, Germany. Intended Use: This instrument will be used to identify structure-function relationships in neurons at different levels of analysis (e.g., the single neuron level and the neuronal circuit level). This instrument is capable of performing serial section transmission electron microscopy, which is required in order to analyze the detailed structural changes involved. Justification for Duty-Free Entry: There are no instruments of the same general category being manufactured within the United States. Application accepted by Commissioner of Customs: May 21, 2009.

Docket Number: 09-035. Applicant: University of Minnesota Medical School, 6-155 Jackson Hall, Department of Biochemistry, Molecular Biology & Biophysics, 321 Church St. S.E., Minneapolis, MN 55455. Instrument: Muscle Research System. Manufacturer: Scientific Instruments, Germany. Intended Use: This instrument will be used to simultaneously measure the force and kinetic properties as a function of calcium concentration in muscle fibers and to determine if this is affected by muscle diseases of both skeletal and cardiac muscle. A unique feature of this instrument is that it requires a gradient maker and pump control in order to simultaneously measure the isometric force of skinned muscle fibers as a function of calcium concentration. Further, a laser system is needed to excite fluophores in order to simultaneously measure the force and measure the myosin ATPase.

Justification for Duty-Free Entry: There are no instruments of the same general category being manufactured within the United States. Application accepted by Commissioner of Customs: May 11, 2009.

Dated: June 1, 2009.
Christopher Cassel,
Acting Director, IA Subsidies Enforcement Office.

[FR Doc. E9-13195 Filed 6-4-09; 8:45 am]

BILLING CODE 3510-DS-S